DEPARTMENT OF COMMERCE

National Oceanic and Atmospheric Administration

RIN 0648-XF968

Marine Mammals; File No. 21371

AGENCY: National Marine Fisheries Service (NMFS), National Oceanic and Atmospheric Administration (NOAA), Commerce.

ACTION: Notice; receipt of application.

SUMMARY: Notice is hereby given that the National Marine Fisheries Service's Northeast Fisheries Science Center (NEFSC), 166 Water Street, Woods Hole, Massachusetts 02543 (Responsible Party: Jon Hare) has applied in due form for a permit to conduct research on marine mammals.

DATES: Written, telefaxed, or email comments must be received on or before March 12, 2018.

ADDRESSES: The application and related documents are available for review by selecting “Records Open for Public Comment” from the “Features” box on the Applications and Permits for Protected Species (APPS) home page, https://apps.nmfs.noaa.gov, and then selecting File No. 21371 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant is requesting a research permit for 38 species of cetaceans including the following endangered species: Blue (Balaenoptera musculus), bowhead (Balaena mysticetus), fin (B. physalus), North Atlantic right (Eubalaena glacialis), sei (B. borealis), sperm (Physeter macrocephalus), and Western North Pacific gray (Eschrichtius robustus) whales. The research area will include U.S. waters in the Northwest Atlantic Ocean from Florida to Maine, and Canadian waters in the Bay of Fundy and Scotian Shelf. The objective of the research is to determine the abundance, distribution, movement patterns, dive behavior, demographic parameters, trends in recruitment, and stock structure of cetaceans in these waters. Research methods during vessel and aerial (manned and unmanned) surveys will include counts, surveys, behavioral observations, photo-identification, video recording, photogrammetry, passive acoustic recording, biological sampling (skin and blubber biopsy, feces, and exhaled air) and tagging (suction-cup and dart/barb tags). Receipt, import, and export of marine mammal parts would also be authorized for research purposes. Four species of non-ESA listed pinnipeds and four species of sea turtles may be harassed incidental to cetacean research. The permit would be valid for a period of five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 5, 2018.
Julia Harrison,
Chief, Permits and Conservation Division, Office of Protected Resources, National Marine Fisheries Service.

[FR Doc. 2018-02508 Filed 2-7-18; 8:45 am]

BILLING CODE 3510-22-P